DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 2282 1-29, dated April 30, 2010) is amended to establish the Human Capital Management Office, Office of the Chief Operating Officer, Centers for Disease Control and Prevention.

Section C-B, Organization and Functions, is hereby amended as follows:

After the mission statement for the Office of Health and Safety (CAJP), insert the following:

Human Capital Management Office (CAJQ). (1) Develops goals and objectives and provides leadership, policy formation, oversight, and guidance in program human capital planning and development; (2) plans, directs, and manages CDC-wide training programs; (3) develops, designs, and implements a comprehensive strategic human resource leadership and career management program for all occupational series throughout CDC; (4) provides technical assistance in organizational development, career management, employee development, and training; (5) maximizes economies of scale through systematic planning and evaluation of agency-wide training initiatives to assist CDC employees in achieving required competencies; (6) assists in the definition and analysis of training needs and develops and evaluates instructional products designed to meet those needs; (7) works with partners, internally and externally, to develop a strategic vision for the public health workforce; (8) collaborates with CDC partners to develop workforce goals for all of CDC/ATSDR; (9) provides guidance and oversight to the Excellence in Learning Council to coordinate, inform, and share strategic vision for all of CDC's Centers/Institute/Offices (CIOs); (10) conducts internal succession planning, forecasting services, and environmental scanning to ascertain both current and future public health workforce needs; (11) provides leadership, oversight, and guidance in the management and operations of programs; (12) collaborates as appropriate, with the CDC Office of the Director (OD), CIOs, domestic and international agencies and organizations and provides a focus for short- and long-term planning within the Human Capital Management Office (HCMO); (13) conducts organizational assessments of CDC/ATSDR to determine compliance with agency guidance, regulatory and statutory requirements of federal human capital programs and initiatives; (14) conducts organizational studies of human capital policies, initiative or procedures as directed by OPM, HHS, CDC or other pertinent federal agencies; and (15) administers, develops policy and provides oversight of agency individual learning accounts (ILAs) and individual development plans (IDPs), performance management and other human capital programs.

Office of the Director (CAJQ1). (1) Provides leadership and overall direction for HCMO; (2) develops goals and objectives, and provides leadership, policy formation, scientific oversight, and guidance in program planning and development; (3) plans, coordinates, and develops research plans for HCMO; (4) uses modeling and forecasting tools for workforce planning and decision making; (5) coordinates all program reviews; (6) reviews, prepares, coordinates, and develops proposed legislation, Congressional testimony, and briefing materials; (7) assists programs in establishing performance metrics and coordinates quarterly reviews with programs to ascertain status on meeting of the metrics; (8) coordinates budget formulation/negotiation related to program initiatives and goals management; (9) identifies relevant scanning/benchmarking on workforce and career development processes, services and products; (10) provides leadership and guidance on new developments and national trends for public health workforce; (11) establishes policies governing major learning initiatives and new learning activities, and works collaboratively within CDC and other components in planning, developing and implementing policies related to training initiatives, including but not limited to, ILAs, IDPs, and loan repayment programs; (12) develops unified CDC-wide administrative systems and advocates and supports the commitment of resources to application development; (13) coordinates management information systems and analyses of data for improved utilization of resources; and (14) directs systems analysis and design, programming, and systems training as it relates to implementation of new and existing administrative, management, and executive information systems.

Planning and Policy Activity (CAJQ13). (1) Provides leadership, guidance, and consulting services for CDC on strategic workforce planning, performance management, and organizational development; (2) directs improvement in human capital programs with the objectives of increasing the operational effectiveness and efficiency of agency human capital initiatives, mission, goals and objectives; (3) serves as a bridge between human capital management and budgeting and financial management by using human capital performance metrics and information to support budget requests, and performance results for financial accountability; (4) assesses the impact of human capital initiatives; (5) promotes, supports, and advocates for strategic human capital management concerns and initiatives; (6) assesses the effectiveness of human capital policies and procedures focused on achieving organizational outcomes and ensuring strategic alignment; (7) provides policy and operational direction to workforce and career development programs across CDC; (8) promotes, supports, and advocates for quality education and training, workforce diversity, policy, and other initiatives needed to develop and maintain a vital public health workforce and a culture of excellence in learning; (9) provides a forum for information exchange among the workforce and career development officers, AHRC, CDC/OD, and other public health workforce development stakeholders; (10) develops and implements administrative policies, procedures, and operations, as appropriate for CDC/ATSDR, and prepares special reports and studies for the CDC/OD; and (11) provides guidance and oversight on the development of policies, procedures and processes associated with agency awards.

Human Capital Planning Branch (CAJQB). (1) Participates with management in program planning, policy determination, evaluations, budget and decisions concerning the division; (2) works with AHRC, Office of the Chief Operating Officer, CDC Excellence in Learning Council, workforce and career development officers, and agency managers to carry out human capital management planning and development activities; (3) establishes, coordinates development and monitors implementation of the human capital accountability system framework for management of the human capital management plan; (4) ensures strategic alignment with OPM's Human Capital Assessment and Accountability Framework and HHS' associated procedures and deliverables; (5) identifies mission-critical occupations and their associated competencies to assess potential “gaps” in occupations and competencies that are essential to CDC achieving its strategic goals; (6) reports progress in meeting human capital management improvement objectives associated with the President's Management Agenda and other related government-wide human capital initiatives; (7) coordinates implementation of a succession plan for key leadership and technical positions with an emphasis on mission-critical occupations; (8) develops an agency-wide strategic hiring plan that includes recruitment and retention strategies to facilitate hiring members of under-represented groups and those with the requisite professional/scientific skills for closing occupational series and/or competency gaps in the workforce; and (9) provides information on Commissioned Corps pay, benefits, performance management, assignments, retirement, etc., to members of the Corps and CDC management, and coordinates the Commissioned Corps promotion and award programs.

Training and Career Development Branch (CAJQC). (1) Plans, directs, implements, supports, and coordinates the activities of the branch; (2) provides agency-wide leadership and guidance in all functional areas related to training and career development; (3) participates with management in program planning, policy determination, evaluations, budget and decisions; (4) designs, develops, implements and evaluates a comprehensive strategic human resource leadership and career training and development program for all occupational series throughout CDC; (5) develops and implements training strategies and activities that contribute to the agency's mission, goals and objectives; (6) maintains employee training records; (7) maximizes economies of scale through systematic planning and evaluation of agency-wide training initiatives to assist CDC employees in achieving required competencies; (8) develops and validates occupational and functional competencies and develops related training plans; (9) develops and administers intern and professional development programs, the long-term training program, and the mentoring program; (10) administers and monitors the Training and Learning Management System for compliance with the Government Employees Training Act; (11) conducts training needs assessment of CDC employees nationwide and provides analysis and data to correlate individual training with corporate strategic plans; (12) develops and maintains assessment tools to identify core competency requirements for each occupational series throughout the agency; (13) provides consultation, guidance, and technical assistance to managers and employees in organizational development, career management, employee development, and training; (14) develops and delivers education and training programs to meet the identified needs of the public health workforce; (15) promotes, develops, and implements training needs assessment methodology to establish priorities for training interventions; (16) collaborates, as appropriate, with the CDC/OD, other CIOs, HHS, OPM and other domestic and international agencies and organizations; and (17) develops and implements policies related to employee training.

Dated: May 12, 2010.
William P. Nichols,
Chief Operating Officer, Centers for Disease Control and Prevention.

[FR Doc. 2010-12347 Filed 5-21-10; 8:45 am]

BILLING CODE 4163-18-M